DEPARTMENT OF AGRICULTURE

Foreign Agricultural Service

Notice of Request for New Approval of Information Collection

AGENCY: Foreign Agricultural Service, USDA.

ACTION: Notice and request for comments.

SUMMARY: In accordance with the Paperwork Reduction Act of 1995, this notice announces that the Foreign Agricultural Service (FAS) intends to request the approval of a new information collection process involving the Trade Show Evaluation forms used in support of FAS' Exporter Assistance Programs.

DATES: Comments on this notice must be received by November 12, 2013 to be assured of consideration.

Requests for Comments: Send comments regarding (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of automated electronic, mechanical, or other technological collection techniques or other forms of information technology. Comments and questions regarding the Trade Show Evaluation forms should be sent to: Maria Nemeth-Ek, Deputy Director, Trade Services Staff, Office of Trade Programs, Foreign Agricultural Service, U.S. Department of Agriculture, 1400 Independence Avenue SW., Stop 1020, Washington, DC 20250-1020. All written comments received will be available for public inspection at the above address during business hours from 8:00 a.m. to 5:00 p.m.

FOR FURTHER INFORMATION CONTACT: Maria Nemeth-Ek at the address stated above or telephone (202) 720-3623, or by email at: Maria.Nemeth-Ek@fas.usda.gov.

SUPPLEMENTARY INFORMATION:

Title: Trade Show Evaluation Forms

OMB Number: TBD

Type of Request: New information collection process.

Abstract: FAS is requesting the approval of a Trade Show Evaluation form to collect information from participants of USDA/FAS-endorsed trade shows. This form is used by FAS' Office of Trade Programs/Trade Services Staff (OTP/TSS) to gather feedback from participants in USDA-endorsed trade shows and helps to improve the services provided by FAS. This form will also allow FAS to capture information about the companies' experiences at the trade show in a more concise manner and update contact information of the offices responsible for managing the trade show program.

Each year a certain number of trade shows are selected to be endorsed by USDA/FAS and host a U.S.A. Pavilion for U.S. companies to promote their products to foreign buyers. A list of USDA endorsed shows is available at: www.fas.usda.gov/agx/trade_events/trade_events.asp.

The data collected through the Trade Show Evaluation form is tabulated by FAS to provide information on performance measures that track progress towards attaining FAS' export objectives. This information is necessary to manage, plan, and evaluate the effectiveness of FAS' services, which are intended to help U.S. companies market and sell their products overseas.

Estimate of Burden: The burden to U.S. exporters is estimated to average 0.13 hours (8 minutes) per response.

Respondents: U.S. agricultural exporters of food, farm, and forest products.

Estimated Number of Respondents: 1400 per annum.

Estimated Number of Responses per Respondent: 1 per annum.

Estimated Total Annual Burden of Respondents: 139 hours per annum.

Copies of this information collection can be obtained from Connie Ehrhart, the Agency Information Collection Coordinator, at (202) 690-1578.

All responses to this notice will be summarized and included in the request for OMB approval. All comments will also become a matter of public record. Persons with disabilities who require an alternative means to communicate information (Braille, large print, audiotape, etc.) should contact USDA's Target Center at (202) 720-2600 (voice and TDD).

Dated: August 29, 2013.
Philip C. Karsting,
Administrator, Foreign Agricultural Service.

[FR Doc. 2013-21997 Filed 9-9-13; 8:45 am]

BILLING CODE 3410-10-P